DEPARTMENT OF THE TREASURY

Internal Revenue Service

Open Meeting of the Area 2 Taxpayer Advocacy Panel (Including the States of Delaware, North Carolina, South Carolina, New Jersey, Maryland, Pennsylvania, Virginia, West Virginia and the District of Columbia)

AGENCY: Internal Revenue Service (IRS), Treasury.

ACTION: Notice.

SUMMARY: An open meeting of the Area 2 Taxpayer Advocacy Panel will be conducted in Philadelphia, PA. The Taxpayer Advocacy Panel is soliciting public comments, ideas, and suggestions on improving customer service at the Internal Revenue Service.

DATES: The meeting will be held Thursday, June 22, Friday, June 23, and Saturday, June 24, 2006.

FOR FURTHER INFORMATION CONTACT: Inez E. De Jesus at 1-888-912-1227 (toll-free), or 954-423-7977 (non toll-free).

SUPPLEMENTARY INFORMATION: Notice is hereby given pursuant to section 10(a)(2) of the Federal Advisory Committee Act, 5 U.S.C. App. (1988) that an open meeting of the Area 2 Taxpayer Advocacy Panel will be held Thursday, June 22, 2006 from 1:30 p.m. to 4:30 p.m. ET, Friday, June 23, 2006 from 8 a.m. to 12 p.m. and from 1 p.m. to 4:30 p.m. ET at the Internal Revenue Service office, 600 Arch Street, and Saturday, June 24, 2006 from 8 a.m. to 11:30 a.m. ET at the Holiday Inn-Historic District, 400 Arch Street, Philadelphia, PA 19106. For information or to confirm attendance, notification of intent to attend the meeting must be made with Inez De Jesus. Ms. De Jesus may be reached at 1-888-912-1227 or 954-423-7977, or write Inez E. De Jesus, TAP Office, 1000 South Pine Island Rd., Suite 340, Plantation, FL 33324, or post comments to the Web site: http://www.improveirs.org.

The agenda will include the following: Various IRS issues.

Dated: May 18, 2006.
John Fay,
Acting Director, Taxpayer Advocacy Panel.

[FR Doc. E6-7971 Filed 5-23-06; 8:45 am]

BILLING CODE 4830-01-P